DEPARTMENT OF AGRICULTURE

Office of the Secretary

[Docket No. 04-001-1]

Declaration of Extraordinary Emergency Because of Bovine Spongiform Encephalopathy

Bovine spongiform encephalopathy (BSE) has been detected in the United States. BSE is a progressive neurological disorder of ruminants that results from infection by an unconventional transmissible agent. It appears that BSE is primarily spread through the use of ruminant feed containing protein and other products from ruminants infected with BSE. The disease was detected in the State of Washington and had not previously been detected in the United States.

The presence of BSE presents a threat to U.S. livestock. It constitutes a significant danger to the national economy and a potential serious burden on interstate and foreign commerce. The Department has reviewed the measures being taken by the State of Washington to quarantine and regulate the herds in question and has consulted with appropriate State Government and Indian tribal officials in the State of Washington. Based on that review and consultation, and the scope of the impact of this event on the national economy, the Department has determined that the State may be unable to adequately take the measures necessary to quarantine and dispose of animals that may be infected with or exposed to BSE. Therefore, the Department has determined that an extraordinary emergency exists because of BSE in the State of Washington.

This declaration of extraordinary emergency authorizes the Secretary to (1) hold, seize, treat, apply other remedial actions to, destroy (including preventative slaughter), or otherwise dispose of, any animal, article, facility, or means of conveyance if the Secretary determines the action is necessary to prevent the dissemination of BSE and (2) prohibit or restrict the movement or use within the State of Washington, or any portion of the State of Washington, of any animal or article, means of conveyance, or facility if the Secretary determines that the prohibition or restriction is necessary to prevent the dissemination of BSE. The appropriate State Government and Indian tribal officials in Washington have been informed of these facts.

EFFECTIVE DATE: This declaration of extraordinary emergency shall become effective January 6, 2004.

Ann M. Veneman,
Secretary of Agriculture.

[FR Doc. 04-623 Filed 1-9-04; 8:45 am]

BILLING CODE 3410-34-P